DEPARTMENT OF THE INTERIOR

Bureau of Indian Affairs

25 CFR Part 36

[Docket ID BIA-2012-0001]

RIN 1076-AF10

Heating, Cooling, and Lighting Standards for Bureau-Funded Dormitory Facilities

AGENCY: Bureau of Indian Affairs, Interior.

ACTION: Final rule.

SUMMARY: The Bureau of Indian Affairs (BIA) is confirming the interim final rule published and effective on May 24, 2012, addressing heating, cooling, and lighting standards for Bureau-funded dormitory facilities. This rule was developed through negotiated rulemaking, as required by the No Child Left Behind Act of 2001. The May 24, 2012, publication stated that the BIA would review comments on the interim final rule and either confirm the rule or initiate a proposed rulemaking. BIA did not receive any adverse comments, and therefore confirms the rule without change.

DATES: Effective October 2, 2012.

FOR FURTHER INFORMATION CONTACT: Regina Gilbert, Office of Regulatory Affairs and Collaborative Action, Office of the Assistant Secretary—Indian Affairs, 1001 Indian School Road, NW., Suite 312, Albuquerque, NM 87104; telephone (505) 563-3805; fax (505) 563-3811.

SUPPLEMENTARY INFORMATION: The No Child Left Behind School Facilities and Construction Negotiated Rulemaking Committee developed the interim final rule to complete the work responding to the mandates of the No Child Left Behind Act at 25 U.S.C. 2002. See the May 24, 2012, interim final rule (77 FR 30888) for additional background on the Committee. The Committee determined, by consensus, that the codes and standards identified in the “School Facilities Design Handbook” (handbook) dated March 30, 2007, respecting heating, ventilation, air conditioning, and lighting are appropriate for home-living (dormitory) situations at Bureau-funded Indian education facilities. On May 24, 2012, BIA published the interim final rule (77 FR 30888), under Docket No. BIA-2012-0001, to make the codes and standards identified in the handbook respecting heating, ventilation, air conditioning, and lighting mandatory for home-living (dormitory) situations at Bureau-funded Indian education facilities; require the Bureau to give the public notice and an opportunity to comment on any proposal to change which standard building codes are incorporated in the handbook; and make a technical change to remove reference to subpart H, which is no longer in existence, and replace it with a reference to subpart G.

We stated in the interim final rule that we would address comments received and, by a future publication in the Federal Register, confirm the interim final rule, with or without change, or initiate a proposed rulemaking. We did not receive any comments on the interim final rule; therefore, we are confirming the interim final rule without change.

List of Subjects in 25 CFR Part 36

Educational facilities, Incorporation by reference, Indians—education, school construction.

Accordingly, the interim rule published May 24, 2012, at 77 FR 30888, is adopted as final without change.

Dated: September 20, 2012.
Donald E. Laverdure,
Acting Assistant Secretary—Indian Affairs.

[FR Doc. 2012-24258 Filed 10-1-12; 8:45 am]

BILLING CODE 4310-W7-P